NUCLEAR REGULATORY COMMISSION

[Docket No. 70-3103; NRC-2025-0093]

Louisiana Energy Services, LLC, dba Urenco USA; URENCO USA Facility Authorizations

AGENCY: Nuclear Regulatory Commission.

ACTION: Inspection reports; issuance.

SUMMARY: The U.S. Nuclear Regulatory Commission (NRC) staff has conducted inspections of the Louisiana Energy Services, LLC, Urenco USA (UUSA) Facility in Eunice, New Mexico, and has authorized the introduction of uranium hexafluoride (UF6) into Cascades 2, 4.4, 5.8 through 5.12, and 6.1 through 6.5; authorized the commencement of UF6 re-feed operations in Cascades 5.8 through 5.12 and 6.1 through 6.5; authorized Autoclaves 3, 4, and 5; authorized use of the Cylinder Receipt and Dispatch Building—Multifunction Decontamination Train; and authorized operation of the Solid Waste Collection Facility and Ventilated Room at the UUSA Facility.

DATES: June 23, 2025.

ADDRESSES: Please refer to Docket ID NRC-2025-0093 when contacting the NRC about the availability of information regarding this document. You may access publicly available information related to this document using any of the following methods:

• Federal Rulemaking Website: Go to http://www.regulations.gov and search for Docket ID NRC-2025-0093. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Jonathan Rowley, Office of Nuclear Material Safety and Safeguards, U.S. Nuclear Regulatory Commission, Washington, DC 20555-0001; telephone: 301-415-4053; email: Jonathan.Rowley@nrc.gov.

SUPPLEMENTARY INFORMATION:

I. Discussion

The introduction of UF6 into any separation building module (SBM) at the UUSA uranium enrichment facility is not permitted until the NRC completes an operational readiness and management measures verification review, to verify that management measures ensure compliance with the performance requirements of section 70.61 of title 10 of the Code of Federal Regulations (10 CFR) have been implemented, and confirms that the system, structures, and components in the SBM were constructed in accordance with the license and would be operated safely.

The NRC staff has conducted operational readiness reviews, management measures verification reviews, and prepared inspection reports documenting its findings in accordance with the requirements of the NRC's Inspection Manual. The authorization letters associated with the various reviews and reports are available for review as specified in Section II of this notice. The publication of this notice satisfies the requirements of 10 CFR 70.32(k), and Section 193(c) of the Atomic Energy Act of 1954, as amended.

II. Availability of Documents

The documents identified in the following table are available to interested persons through ADAMS, as indicated.

Document description | ADAMS accession No.
Louisiana Energy Services, LLC, Urenco USA Facility, Docket No. 70-3103, Authorization to Introduce Uranium Hexafluoride into Cascade 2, dated July 21, 2010 | ML102020575
Louisiana Energy Services, LLC, Urenco USA Facility, Docket No. 70-3103, Autoclave 3 Authorization, dated October 4, 2013 | ML13277A424
Louisiana Energy Services, LLC, Urenco USA Facility, Docket No. 70-3103, Authorization to Introduce Uranium Hexafluoride into Cascade 4.4, dated October 8, 2013 | ML13281A267
Louisiana Energy Services, LLC, Urenco USA Facility, Docket No. 70-3103, Cylinder Receipt and Dispatch Building Multifunction Decontamination Train Authorization, dated December 1, 2014 | ML14336A054
Louisiana Energy Services, LLC, Urenco USA Facility, Docket No. 70-3103, Autoclaves 4 and 5 Authorization, dated June 12, 2015 | ML15163A211
Louisiana Energy Services, LLC, Urenco USA Facility, Docket No. 70-3103, Authorization to Introduce Uranium Hexafluoride into Cascade 5.8, dated June 23, 2015 | ML15174A025
Louisiana Energy Services, LLC, Urenco USA Facility, Docket No. 70-3103, Authorization to Introduce Uranium Hexafluoride into Cascade 5.9, dated July 20, 2015 | ML15201A374
Louisiana Energy Services, LLC, Urenco USA Facility, Docket No. 70-3103, Authorization to Introduce Uranium Hexafluoride into Cascade 5.10, dated August 24, 2015 | ML15236A139
Louisiana Energy Services, LLC, Urenco USA Facility, Docket No. 70-3103, Authorization to Introduce Uranium Hexafluoride into Cascade 5.11, dated June 28, 2016 | ML16180A250
Louisiana Energy Services, LLC, Urenco USA Facility, Docket No. 70-3103, Authorization to Introduce Uranium Hexafluoride into Cascade 5.12, dated March 31, 2017 | ML17090A126
Louisiana Energy Services, LLC, Urenco USA Facility, Docket No. 70-3103, Authorization to Introduce Uranium Hexafluoride into Cascade 6.1, dated September 29, 2015 | ML15272A553
Louisiana Energy Services, LLC, Urenco USA Facility, Docket No. 70-3103, Authorization to Introduce Uranium Hexafluoride into Cascade 6.2, October 26, 2015 | ML15299A090
Louisiana Energy Services, LLC, Urenco USA Facility, Docket No. 70-3103, Authorization for Operations of the Solid Waste Collection Facility and Ventilated Room, dated November 21, 2016 | ML16326A243
Louisiana Energy Services, LLC, Urenco USA Facility, Docket No. 70-3103, Authorization to Introduce Uranium Hexafluoride into Cascade 6.3, dated November 17, 2017 | ML17321A004
Louisiana Energy Services, LLC, Urenco USA Facility, Docket No. 70-3103, Authorization to Introduce Uranium Hexafluoride into Cascade 6.4, dated July 11, 2018 | ML18193A307
Urenco USA—Authorization to Introduce Uranium Hexafluoride into Cascade 6.5, dated May 13, 2025 | ML25120A139

Dated: June 18, 2025.
For the Nuclear Regulatory Commission.
Samantha Lav,
Chief, Fuel Facility Licensing Branch, Division of Fuel Management, Office of Nuclear Material Safety and Safeguards.

[FR Doc. 2025-11487 Filed 6-20-25; 8:45 am]

BILLING CODE 7590-01-P